DEPARTMENT OF COMMERCE

National Oceanic and Atmospheric Administration

[RTID 0648-XE984]

Western Pacific Fishery Management Council; Public Meetings

AGENCY: National Marine Fisheries Service (NMFS), National Oceanic and Atmospheric Administration (NOAA), Commerce.

ACTION: Notice of public meeting.

SUMMARY: The Western Pacific Fishery Management Council (Council) will hold a meeting of its American Samoa Council Advisors and its American Samoa Regional Ecosystem Advisory Committee (REAC) meeting to discuss and make recommendations on fishery management issues in the western Pacific region.

DATES: The meetings will be held on Saturday, June 28, 2025, and Monday, June 30, 2025. For specific times and agendas, see SUPPLEMENTARY INFORMATION.

ADDRESSES: The Council will hold its American Samoa Council Advisors Meeting in-person at the Flying Fox Gastropub, Pava'ia'i, American Samoa, 96799 and the American Samoa REAC Meeting in-person at the Sadie's by the Sea Conference Room, Utulei, American Samoa, 96799.

FOR FURTHER INFORMATION CONTACT: Kitty M. Simonds, Executive Director, Western Pacific Fishery Management Council; phone: (808) 522-8220.

SUPPLEMENTARY INFORMATION: The American Samoa Council Advisors meeting will be held between 2 p.m. and 5 p.m. (Samoa Standard Time [SST]) on Saturday, June 28, 2025. The American Samoa REAC will be held between 9 a.m. and 12 p.m. SST on Monday, June 30, 2025.

Public Comment periods will be provided in the agendas. The order in which the agenda items are addressed may change. The meetings will run as late as necessary to complete scheduled business.

Schedule and Agenda for the American Samoa Council Advisors Meeting

Saturday, June 28, 2025, 2 p.m. to 5 p.m. SST

1. Welcome and Introductions

2. Overview of the Council's Community Consultation Effort

3. Fishers Observations and Local Knowledge Overview

4. American Samoa Fishery Issues

A. Deep Sea Mining

B. Shark Depredation

C. Marine National Monuments

D. Review of Recent Executive Orders

E. Roundtable Discussion on Climate Change Impacts in American Samoa

5. Public Comment

6. Discussion and Recommendations

7. Other Business

Schedule and Agenda for the American Samoa REAC Meeting

Monday, May 30, 2025, 9 a.m. to 12 p.m. SST

1. Welcome and Introductions

2. Overview of the American Samoa REAC

3. Report of the 2023 American Samoa REAC Meeting

4. Federal Fishery Monitoring and Management

A. American Samoa FEP Overview

B. Recent Executive Orders

C. Deep Sea Mining in American Samoa

D. Updates on Inflation Reduction Act Projects on Regulatory Review and Community Consultations

5. Roundtable Climate Change Impacts in American Samoa

6. American Samoa Fishery and Resource Conservation Issues

A. American Samoa Territorial Fishery Management Plan

B. Shark Depredation in American Samoa

C. Marine Debris Monitoring Survey

7. Roundtable Agency and Partner Updates

8. Public Comment

9. Discussion and Recommendations

10. Other Business

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: June 12, 2025.
Rey Israel Marquez,
Acting Deputy Director, Office of Sustainable Fisheries, National Marine Fisheries Service.

[FR Doc. 2025-11055 Filed 6-13-25; 8:45 am]

BILLING CODE 3510-22-P